DEPARTMENT OF AGRICULTURE

Agency Information Collection Activities: Proposed Collection; Comment Request—FNS-380, Worksheet for the Supplemental Nutrition Assistance Program Quality Control Reviews

AGENCY: Food and Nutrition Service (FNS), USDA.

ACTION: Notice.

SUMMARY: In accordance with the Paperwork Reduction Act of 1995, this notice invites the general public and other public agencies to comment on this proposed information collection. This is a revision of a currently approved collection of FNS-380, Worksheet for the Supplemental Nutrition Assistance Program's Quality Control Reviews.

DATES: Written comments must be received on or before May 2, 2016.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Stephanie Proska, Food and Nutrition Service, U.S. Department of Agriculture, 3101 Park Center Drive, Room 822, Alexandria, VA 22302. Comments may also be submitted via fax to the attention of Stephanie Proska at 703-305-0928 or via email to SNAPHQ-WEB@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Stephanie Proska at 703-305-2437.

SUPPLEMENTARY INFORMATION:

Title: Quality Control Review Schedule.

Form Number: FNS 380.

OMB Number: 0584-0074.

Expiration Date: May 31, 2016.

Type of Request: Revision of a currently approved collection.

Abstract: Form FNS-380, is a Supplemental Nutrition Assistance Program worksheet used to determine eligibility and benefits for households selected for review in the quality control sample of active SNAP cases. We estimate the total reporting burden for the collection of information to support SNAP quality control as 517,639.20 hours. This includes approximately 8.9 hours for State agencies to analyze each household case record including planning and carrying out the field investigation; gathering, comparing, analyzing and evaluating the review data and forwarding selected cases to the Food and Nutrition Service for Federal validation, totaling approximately 490,096.30 hours for the entire caseload. We are also including an average interview burden of 30 minutes (0.5 hours) for each household, creating a reporting burden for them for 27,534.00 hours. Additionally, we estimate the recordkeeping burden per record for the State agency to be 0.0236 hours, thereby making the recordkeeping burden associated with this information collection for the State agency to be 1,299.61 hours. The total estimated reporting and recordkeeping burden for this collection is 518,938.81 hours and 165,201 total annual responses for reporting and recordkeeping.

The reporting and recordkeeping burden for this form was previously approved under OMB clearance number 0584-0074. OMB approved the burden through May 31, 2016. Based on the most recent table of active case sample sizes and completion rates (FY2014), we estimate 55,067 FNS-380 worksheets and interviews will now be completed annually. This is an increase of 3,106 responses from the estimate made to substantiate the current collection. The increase in response is a result of an increase in the number of active cases being pulled for review over the minimum required review amount. We are requesting a three-year approval from OMB for this information collection.

Affected Public: 55,120 (Households, State, Local and Tribal Government: Respondent groups identified include: 53 State agencies and 55,067 Households.)

Estimated Number of Responses per Respondent: 2.997115 (The total number of responses per household is 1 and the total estimated number of responses per State, Local and Tribal Government respondents is 1,039.)

Estimated Total Annual Responses: 165,201 (This includes 55,067 sampled active cases for QC review, 55,067 households to report, and the same 55,067 records being kept by the 53 State agencies.)

Estimated Time per Response: 3.1411999 (The estimated time of response for State agencies to report is approximately 534 minutes, 30 minutes for households to report, and the estimated response time for State agencies to do recordkeeping is approximately 1.42 minutes. Therefore, the total time per response is approximately 565.42 minutes or 9.42 hours.)

Estimated Total Annual Burden on Respondents: 518,929.38 hours. (This includes 491,395.88 for SA reporting and recordkeeping) + 27,533.50 I/H reporting only) See the table below for estimated total annual burden for each type of respondent.

Respondent | Estimated number of respondents | Estimated total responses annually per respondent | Estimated total annual responses (Col. bxc) | Estimated average number of of hours per response | Estimated total hours (Col. dxe)
Reporting and Recordkeeping Burden:
State Agencies (SA) Reporting | 53 | 1,039 | 55,067 | 8.9 | 490,096.30
State Agencies Recordkeeping | 53 | 1,039 | 55,067 | 0.0236 | 1,299.58
Subtotal States Reporting And Recordkeeping | 53 | 2,078 | 110,134 | 4.4617998 | 491,395.88
Individuals/Households (I/H)Reporting | 55,067 | 1 | 55,067 | .5 | 27,533.50
Subtotal Households Reporting Only | 55,067 | 1 | 55,067 | .5 | 27,533.50
Grand Total Reporting & Recordkeeping Burden for the entire collection I/H and SA | 55,120 | 2.99711 | 165,201 | 3.1411999 | 518,929.38

Dated: February 23, 2016.
Audrey Rowe,
Administrator, Food and Nutrition Service.

[FR Doc. 2016-04382 Filed 2-29-16; 8:45 am]

BILLING CODE 3410-30-P